DEPARTMENT OF COMMERCE

Bureau of the Census

Census Advisory Committees on the American Indian and Alaska Native Populations, the African American Population, the Asian Population, the Native Hawaiian and Other Pacific Islander Populations, and the Hispanic Population

AGENCY: Bureau of the Census, Commerce.

ACTION: Notice of Public Meeting.

SUMMARY: Pursuant to the Federal Advisory Committee Act (Pub. L. 92-463 as amended by Pub. L. 94-409, Pub. L. 96-523, and Pub. L. 97-375), the Bureau of the Census (Census Bureau) is giving notice of a joint meeting followed by separate and concurrently held meetings of the Census Advisory Committees (CACs) on the American Indian and Alaska Native Populations, the African American Population, the Asian Population, the Native Hawaiian and Other Pacific Islander Populations, and the Hispanic Population.

DATES: November 2-3, 2000. The November 2 meeting will begin at 9 a.m. and end at 5 p.m. The November 3 meeting will begin at 8:30 a.m. and end at 3:30 p.m.

ADDRESSES: The meeting will take place at the Hilton Alexandria Mark Center, 5000 Seminary Road, Alexandria, VA 22311.

FOR FURTHER INFORMATION CONTACT: Maxine Anderson-Brown, Committee Liaison Officer, Census Bureau, Department of Commerce, Room 1647, Federal Building 3, Washington, DC 20233, telephone 301-457-2308, TDD 301-457-2540.

SUPPLEMENTARY INFORMATION: The agenda for the November 2 and 3 meetings will include discussions on the American Community Survey, Census 2000 update, early evaluation results, and other census information. We are still finalizing the details of the meeting's agenda.

The CACs on the American Indian and Alaska Native Populations, the African American Population, the Asian Population, the Native Hawaiian and Other Pacific Islander Populations, and the Hispanic Population are composed of nine members each. The Secretary of Commerce appoints the members. The Committees provide an organized and continuing channel of communication between the representative communities and the Census Bureau. They assist the Census Bureau in its efforts to reduce the differential undercount for Census 2000 and advise on ways that census data can best be disseminated to communities and other users. They provide advice and recommendations for the Census Bureau to consider in planning the 2010 census and the American Community Survey.

All meetings are open to the public, and a brief period will be set aside on November 3 for public comment and questions. Individuals with extensive questions or statements must submit them in writing to the Committee Liaison Officer, named above, at least three days before the meeting.

These meetings are physically accessible to people with disabilities. Requests for sign language interpretation or other auxiliary aids should be directed to the Committee Liaison Officer at least three days prior to the meeting.

Dated: October 3, 2000.
Kenneth Prewitt,
Director, Bureau of the Census.

[FR Doc. 00-25731 Filed 10-5-00; 8:45 am]

BILLING CODE 3510-07-P